COMMITTEE FOR PURCHASE FROM PEOPLE WHO ARE BLIND OR SEVERELY DISABLED

Procurement List; Proposed Additions and Deletions; Correction

AGENCY: Committee for Purchase From People Who Are Blind or Severely Disabled.

ACTION: Notice; correction.

SUMMARY: The Committee for Purchase From People Who Are Blind or Severely Disabled published a document in the Federal Register of June 12, 2015, concerning a notice of intent to add various eyewear and components to the Procurement List for the Department of Veterans Affairs (VA). The document contained the incorrect “Mandatory Purchase For:” information.

FOR FURTHER INFORMATION CONTACT: Barry S. Lineback, Telephone: (703) 603-2118.

Correction

In the Federal Register of June 12, 2015, in FR Doc. 2015-14441, on page 33488, in the third column, correct the Mandatory Purchase For: statement to read: Mandatory For: 100% of the requirements of the Orlando VA Medical Center, Orlando, FL and Off-site facility, Holly Hills, FL; William V. Chappell, Jr. VA Satellite Outpatient Clinic, Daytona Beach, FL; and the VA Lake Nona Campus, Orlando, FL. Comments must be received on or before July 13, 2015.

Dated: June 17, 2015.
Barry S. Lineback,
Director, Business Operations.

[FR Doc. 2015-15266 Filed 6-19-15; 8:45 am]

BILLING CODE 6353-01-P